DEPARTMENT OF TRANSPORTATION

Federal Highway Administration

Notice of Final Federal Agency Actions on the Tappan Zee Hudson River Crossing Project in New York

Correction

In notice document 2012-26799, appearing on page 65929 in the issue of Wednesday, October 31, 2012, make the following correction:

On page 65929, in the first column, under the DATES heading, in the seventh line, “[Insert date 150 days after publication in the Federal Register]” should read “March 30, 2013”.

[FR Doc. C1-2012-26799 Filed 11-1-12; 8:45 am]

BILLING CODE 1505-01-D